DEPARTMENT OF COMMERCE

Foreign-Trade Zones Board

[S-21-2022]

Foreign-Trade Zone 196—Fort Worth, Texas, Application for Subzone Expansion TTI, Inc., Fort Worth, Texas

An application has been submitted to the Foreign-Trade Zones (FTZ) Board by Alliance Corridor, Inc., grantee of FTZ 196, requesting expanded subzone status for the facilities of TTI, Inc., located in Fort Worth, Texas. The application was submitted pursuant to the provisions of the Foreign-Trade Zones Act, as amended (19 U.S.C. 81a-81u), and the regulations of the FTZ Board (15 CFR part 400). It was formally docketed on February 15, 2022.

The proposed subzone site (3.6 acres) is located at 5050 Mark IV Parkway, Fort Worth, Texas. No authorization for production activity has been requested at this time. The proposed expanded subzone would be subject to the existing activation limit of FTZ 196. Because the proposed new site is located outside of FTZ 196's Alternative Site Framework (ASF) service area, authorization for the expanded subzone would not be under the ASF

In accordance with the FTZ Board's regulations, Camille Evans of the FTZ Staff is designated examiner to review the application and make recommendations to the Executive Secretary.

Public comment is invited from interested parties. Submissions shall be addressed to the FTZ Board's Executive Secretary and sent to: ftz@trade.gov. The closing period for their receipt is April 4, 2022. Rebuttal comments in response to material submitted during the foregoing period may be submitted during the subsequent 15-day period to April 18, 2022.

A copy of the application will be available for public inspection in the “Online FTZ Information Section” section of the FTZ Board's website, which is accessible via www.trade.gov/ftz.

For further information, contact Camille Evans at Camille.Evans@trade.gov.

Dated: February 16, 2022.
Andrew McGilvray,
Executive Secretary.

[FR Doc. 2022-03676 Filed 2-18-22; 8:45 am]

BILLING CODE 3510-DS-P